DEPARTMENT OF LABOR

Employment and Training Administration

[TA-W-54,093]

Valenite, Gainesville, TX; Notice of Termination of Investigation

Pursuant to section 221 of the Trade Act of 1974, as amended, an investigation was initiated on January 28, 2004, in response to a worker petition filed by a company official on behalf of workers at Valenite, Gainesville, Texas.

The petitioner has requested that the petition be withdrawn. Consequently, the investigation has been terminated.

Signed at Washington, DC, this 8th day of March, 2004.
Elliott S. Kushner,
Certifying Officer, Division of Trade Adjustment Assistance.

[FR Doc. 04-7179 Filed 3-30-04; 8:45 am]

BILLING CODE 4150-30-P